DEPARTMENT OF COMMERCE

National Oceanic and Atmospheric Administration

[I.D. 092606F]

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) and Highly Migratory Species Advisory Subpanel (HMSAS) will hold a joint work session, which is open to the public.

DATES: The HMSMT/HMSAS work session will be held on Thursday, November 2, 2006, from 8:30 a.m. until 5 p.m. and on Friday, November 3, 2006, beginning at 8:30 a.m. until business is completed.

ADDRESSES: The work sessions will be held at the National Marine Fisheries Service, Southwest Fisheries Science Center, Green Room, 8604 La Jolla Shores Drive, La Jolla, CA 92037; telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT/HMSAS work session will review U.S. and Canadian albacore catch and effort data including an industry discussion of data use, and highly migratory species (HMS)-related topics that are scheduled to appear on the Council's November 12-17, 2006 meeting agenda. These topics include final action on HMS management measures for the April 1, 2007-March 31, 2009, management period; HMS fishery management plan amendment to address overfishing of bigeye tuna; review of exempted fishing permit proposals for the 2007 season; and potential overfishing status determination for yellowfin tuna in the eastern Pacific Ocean. The two committees may also plan future workload, including recommendations for future meetings.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Authority: 16 U.S.C. 1801 et seq.

Dated: September 26, 2006.
Tracey L. Thompson,
Acting Director, Office of Sustainable Fisheries, National Marine Fisheries Service.

[FR Doc. E6-16142 Filed 9-29-06; 8:45 am]

BILLING CODE 3510-22-S